NATIONAL CREDIT UNION ADMINISTRATION

Sunshine Act; Notice of Agency Meeting

TIME AND DATE: 10:00 a.m., Thursday, April 24, 2014.

PLACE: Board Room, 7th Floor, Room 7047, 1775 Duke Street (All visitors must use Diagonal Road Entrance) Alexandria, VA 22314-3428.

STATUS: Open.

MATTERS TO BE CONSIDERED: 1. Share Insurance Fund Quarterly Review.

2. Request from CME Federal Credit Union (Columbus, Ohio) to Expand Its Community Charter.

3. NCUA's Rules and Regulations, Associational Common Bond Requirements.

4. NCUA's Rules and Regulations, Credit Union Capital Planning and Stress Testing.

RECESS: 11:00 a.m.

TIME AND DATE: 11:15 a.m., Thursday, April 24, 2014.

PLACE: Board Room, 7th Floor, Room 7047, 1775 Duke Street, Alexandria, VA 22314-3428.

STATUS: Closed.

MATTERS TO BE CONSIDERED: 1. Share Insurance Appeals (3). Closed pursuant to Exemption (6).

FOR FURTHER INFORMATION CONTACT: Gerard Poliquin, Secretary of the Board, Telephone: 703-518-6304.

Gerard Poliquin,
Secretary of the Board.

[FR Doc. 2014-09111 Filed 4-17-14; 4:15 pm]

BILLING CODE 7535-01-P